DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: May 21, 2006, 9 a.m. to 1 p.m. May 21, 2006, 2:30 p.m. to 7:30 p.m. (site visit and public hearing). May 22, 2006, 10 a.m. to 6 p.m.

Place: Westin Riverwalk Hotel, 420 West Market Street, San Antonio, Texas 73205. Telephone: (210) 224-6500. Fax: (210) 444-6000.

Status: The meeting will be open to the public.

Purpose: The purpose of the meeting is to discuss services and issues related to the health of migrant and seasonal farmworkers and their families to be able to formulate recommendations to the Secretary of Health and Human Services. There will also be a site visit and public hearing regarding matters that affect the health of migrant farmworkers.

Agenda: The agenda includes an overview of the Council's general business activities. The Council will also hear presentations from experts on farmworker issues, including the status of farmworkers health at the local and national level.

In addition, the Council will be going on a site visit and holding a public hearing at which migrant farmworkers, community leaders, and providers will have the opportunity to testify before the Council regarding matters that affect the health of migrant farmworkers. The site visit and hearing are scheduled for Sunday, May 21, from 2:30 p.m. to 7:30 p.m., at the Community Health Development, Inc., 200 South Evans Street, Uvalde, Texas 78801; telephone (830) 278-5604, extension 200, fax (830) 278-1836.

The Council meeting is being held in conjunction with the National Farmworker Health Conference sponsored by the National Association of Community Health Centers, in San Antonio, Texas, during the same period of time.

Agenda items are subject to change as priorities indicate.

For Further Information Contact: Anyone requiring information regarding the Council should contact Gladys Cate, Office of Minority and Special Populations, Bureau of Primary Health Care, Health Resources and Services Administration, 5600 Fishers Lane, Maryland 20857; telephone (301) 594-0367.

Dated: April 19, 2006.
Tina M. Cheatham,
Director, Division of Policy Review and Coordination.

[FR Doc. E6-6144 Filed 4-24-06; 8:45 am]

BILLING CODE 4165-15-P